DEPARTMENT OF JUSTICE

Antitrust Division

Notice Pursuant to the National Cooperative Research and Production Act of 1993—Combinatorial Tools and Advanced Data Analysis Methods for Heterogeneous Catalysis

Notice is hereby given that, on July 20, 1999, pursuant to section 6(a) of the National Cooperative Research and Production Act of 1993, 15 U.S.C. 4301 et seq. (“the Act”), UOP LLC and Nonlinear Dynamics Incorporated (NDI) have filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are Nonlinear Dynamics Incorporated (NDI), Ann Arbor, MI; and UOP LLC, Des Plaines, IL. The nature and objectives of the venture are to conduct research for “Combinatorial Tools and Advanced Data Analysis Methods for Heterogeneous Catalysis”.

Constance K. Robinson,
Director of Operations, Antitrust Division.

[FR Doc. 00-3126 Filed 2-9-00; 8:45 am]

BILLING CODE 4410-11-M